SMALL BUSINESS ADMINISTRATION

Reporting and Recordkeeping Requirements Under OMB Review

AGENCY: Small Business Administration.

ACTION: 30-Day Notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before September 29, 2016.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

SUPPLEMENTARY INFORMATION: The 8(a) BD Program is designed to enhance the business development of small business concerns owned and controlled by socially and economically disadvantaged individuals whose ability to compete in the free enterprise system has been impaired due to diminished capital and credit opportunities as compared to others in the same or similar line of business. In an effort to increase the 8(a) BD Program's accessibility to socially and economically disadvantaged small business owners, and reduce the burden on these small businesses, SBA has amended Form 1010-BUsiness (8(a)Business Development Program Application) and Form 1010-Individual (Individual Information). SBA has clarified and simplified instructions, and streamlined the information collected from applicants and participants, including eliminating information that was deemed unnecessary or could be obtained from other sources available to the agency.

Title: 8(A) SDB Paper and Electronic Application.

Abstract: The Small Business Administration needs to collect this information to determine an applicant's eligibility for admission into the 8(a) Business Development (BD) Program and for continued eligibility to participate in the Program. SBA also uses some of the information for an annual report to Congress on the 8(a) BD Program. Respondents can be individuals and firms making applications to the 8(a) BD Program, or respondents can be individuals and Participant firms revising information related to the 8(a) BD Program Annual Review.

Description of Respondents: Applicants for and Participants in the 8(a) Business Development Program.

Form Numbers: 1010-Business; 1010- AIT; 1010-ANC; 1010-CDC; 1010-IND; 1010-NHO; and 1010C.

Annual Responses: 6045.

Annual Burden: 29,573.

Copies: A copy of the Form OMB 83-1, supporting statement, and other documents submitted to OMB for review may be obtained from the Agency Clearance Officer.

Curtis B. Rich,
Management Analyst.

[FR Doc. 2016-20850 Filed 8-29-16; 8:45 am]

BILLING CODE 8025-01-P